DEPARTMENT OF COMMERCE

Bureau of Industry and Security

15 CFR Part 744

[Docket No. 240215-0049]

RIN 0694-AJ53

Additions of Entities, Revisions of Entries, and Removal of an Entity From the Entity List

AGENCY: Bureau of Industry and Security, Department of Commerce.

ACTION: Final rule.

SUMMARY: The Bureau of Industry and Security is amending the Export Administration Regulations (EAR) by adding two entities under seven entries to the Entity List. These entities are listed under the destinations of Canada (1), the People's Republic of China (China) (1), India (1), Japan (1), Malaysia (1), Sweden (1), and the United Arab Emirates (UAE) (1). Some entities are added under multiple entries, accounting for the difference in the totals. This final rule also modifies two existing entries on the Entity List under the destination of China. This final rule removes one entity under the destination of the UAE.

DATES: This rule is effective February 27, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) where a listed entity is a party to the transaction. The license review policy for each listed entity is identified in the “License Review Policy” column on the Entity List, and the impact on the availability of license exceptions is described in the relevant Federal Register document that adds the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add Chengdu Beizhan Electronics Co. Ltd., to the Entity List under the destination of China for acquiring and attempting to acquire U.S.-origin items on behalf of the University of Electronic Science and Technology, an entity on the BIS Entity List. These activities are contrary to U.S. national security and foreign policy interests under § 744.11 of the EAR. This entity is added with a license requirement for all items subject to the EAR. The entity is added with a license review policy of a presumption of denial.

The ERC determined to add Sandvine Incorporated, under the destinations of Canada, India, Japan, Malaysia, Sweden, and the United Arab Emirates to the Entity List. This addition is being made based on information that Sandvine supplies deep packet inspection technology to the Government of Egypt, where it is used in mass web-monitoring and censorship to block news as well as target political actors and human rights activists. These activities are contrary to the national security and foreign policy interests of the United States under § 744.11 of the EAR. These entities are added with a license requirement for all items subject to the EAR. They are added with a license review policy of a presumption of denial.

For the reasons described above, this final rule adds the following 2 entities under 7 entries to the Entity List and includes, where appropriate, aliases:

Canada

• Sandvine Incorporated.

China

• Chengdu Beizhan Electronics Co., Ltd.

India

• Sandvine Incorporated.

Japan

• Sandvine Incorporated.

Malaysia

• Sandvine Incorporated.

Sweden

• Sandvine Incorporated.

United Arab Emirates

• Sandvine Incorporated.

Modifications to the Entity List

This final rule implements the decision of the ERC to modify two existing entries on the Entity List, both under the destination of China. The ERC determined to revise the entry for Beijing China Aviation Technology Co., Ltd., by adding an alias to the entry for a total of five aliases. In addition, the ERC determined to revise the entry for Rayscience Optoelectronics Innovation Co., Ltd., to add one alias and one additional address.

Removal From the Entity List

The ERC determined to remove Jazirah Aviation Club under the destination of the UAE from the Entity List based on the review the ERC conducted in accordance with the procedures described in supplement no. 5 to part 744 of the EAR.

Savings Clause

For the changes being made in this final rule, shipments of items removed from eligibility for a License Exception or export, reexport, or transfer (in-country) without a license (NLR) as a result of this regulatory action that were en route aboard a carrier to a port of export, reexport, or transfer (in-country), on February 27, 2024, pursuant to actual orders for export, reexport, or transfer (in-country) to or within a foreign destination, may proceed to that destination under the previous eligibility for a License Exception or export, reexport, or transfer (in-country) without a license (NLR) before March 28, 2024. Any such items not actually exported, reexported or transferred (in-country) before midnight, on March 28, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq. ) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to § 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Supplement No. 4 to part 744 is amended by:

a. Under CANADA, adding an entry in alphabetical order for “Sandvine Incorporated;”

b. Under CHINA, PEOPLE'S REPUBLIC OF:

i. Revising the entry for “Beijing China Aviation Technology Co., Ltd.;” and

ii. Adding an entry in alphabetical order for “Chengdu Beizhan Electronics Co., Ltd.;” and

iii. Revising the entry for “Rayscience Optoelectronics Innovation Co., Ltd.;”

c. Under INDIA, adding an entry in alphabetical order for “Sandvine Incorporated;”

d. Under JAPAN, adding an entry in alphabetical order for “Sandvine Incorporated;”

e. Under MALAYSIA, adding an entry in alphabetical order for “Sandvine Incorporated;”

f. Under SWEDEN adding an entry in alphabetical order for “Sandvine Incorporated;”

g. Under UNITED ARAB EMIRATES:

i. Removing the entry for “Jazirah Aviation Club;” and

ii. Adding an entry in alphabetical order for “Sandvine Incorporated.”

The revisions and additions read as follows:

Supplement No. 4 to Part 744—Entity List

* * * * *

Country | Entity | License requirement | License review policy | Federal Register citation
* * * * * * *
CANADA | * * * * * *
| Sandvine Incorporated, a.k.a., the following one alias: —Sandvine Inc. 408 Albert St., Suite 201, Waterloo, Ontario, N2l 3V3, Canada. (See alternate addresses under India, Japan, Malaysia, Sweden, and the United Arab Emirates) | For all items subject to the EAR (See § 744.11 of the EAR) | Presumption of denial | 89 FR [INSERT FR PAGE NUMBER AND February 27, 2024.
| * * * * * *
* * * * * * *
| * * * * * *
CHINA, PEOPLE'S REPUBLIC OF | Beijing China Aviation Technology Co., Ltd., a.k.a. the following five aliases: —BCAT Aviation; —B-CAT; —BCAT; —Beijing Zhongxun Technology Co., Ltd.; and —Stratos. | For all items subject to the EAR. (See § 744.11 of the EAR) | Presumption of denial | 88 FR 38741, 06/12/23. 89 FR [INSERT FR PAGE NUMBER February 27, 2024.
| No. 18, Kaixuan Street, Liangxiang District, Fangshan District, Beijing, D3768, China; and No. 18, Cailida Road, Liang Tang Street, Liangxiang District, Fangshan District, Beijing, China; and Beijing Yizhuang Economic and Technological Development Zone No. 29 Council of Hai Second Road Zhongxing Science and Technology Park, China.
| * * * * * *
| Chengdu Beizhan Electronics Co., Ltd., a.k.a, the following two aliases: —Chengdu Beizhang Electronics Co.; and —Chengdu North China Electronics Co., Ltd. | For all items subject to the EAR. (See § 744.11 of the EAR) | Presumption of denial | 89 FR [INSERT FR PAGE NUMBER February 27, 2024.
| Rm. 203, Yifu Building, University of Electronic Science and Technology of China, No. 4, Section 2 North Jianshe Road, Chengdu, 610054, China; and No. 923, Bin Fen/Bifen Holiday International, Building No 2, Baisi Street, Qing Yang District, Chengdu, 610054, China; and Room 906, Block B, Oaks Plaza, No. 666, Jincheng Avenue, High-tech Zone, Chengdu, 610054, China.
| * * * * * *
| Rayscience Optoelectronics Innovation Co., Ltd., a.k.a., the following one alias: —Collective Enterprise Limited. 3rd Floor, Building 47, No. 2338, Duhui Road, Minhang District, Shanghai, China; and 5F, Building 21, Douhui Road 2338 Lane, Shanghai, China; and Ste. 306, Building 1, Shennan Road 59, Shanghai, China; and Unit 3A, 5F, Far East Consortium Building 21 Des Voeux Road Central HK01, Hong Kong; and Flat B 607, 6/F Jumbo Industrial Building, Hong Kong; and Room 2107, 21/F CCWU Building, 302-308 Hennessy Road, Wanchai, Hong Kong. | For all items subject to the EAR. (See § 744.11 of the EAR) | See § 744.3(d) of the EAR88 FR 13675, 3/6/23. | 89 FR [INSERT FR PAGE NUMBER February 27, 2024.
| * * * * * *
* * * * * * *
INDIA | * * * * * *
| Sandvine Incorporated, a.k.a., the following one alias: —Sandvine Inc. Arliga Ecoworld, Building-1, Ground Floor, East Wing Devarabeesanahalli, Bellandur, Outer Ring Road, Bangalore, 560103, India. (See alternate addresses under Canada, Japan, Malaysia, Sweden, and the United Arab Emirates) | For all items subject to the EAR (See § 744.11 of the EAR) | Presumption of denial | 89 FR [INSERT FR PAGE NUMBER February 27, 2024.
| * * * * * *
* * * * * * *
JAPAN | * * * * * *
| Sandvine Incorporated, a.k.a., the following one alias: —Sandvine Inc. 6F PO Higashi Shimbashi, 2-12-1 Higashi Shimbashi, Minato-ku, Tokyo, 105-0021, Japan. (See alternate addresses under Canada, India, Malaysia, Sweden, and the United Arab Emirates) | For all items subject to the EAR (See § 744.11 of the EAR) | Presumption of denial | 89 FR [INSERT FR PAGE NUMBER February 27, 2024.
| * * * * * *
* * * * * * *
MALAYSIA | * * * * * *
| Sandvine Incorporated, a.k.a., the following one alias: —Sandvine Inc. E-13A-19, 20 & 21, Block E, Plaza Mont Kiara, Mont Kiara, Kualu Lumpur, 50480, Malaysia. (See alternate addresses under Canada, India, Japan, Sweden, and the United Arab Emirates) | For all items subject to the EAR (See § 744.11 of the EAR) | Presumption of denial | 89 FR [INSERT FR PAGE NUMBER February 27, 2024.
| * * * * * *
* * * * * * *
SWEDEN | * * * * * *
| Sandvine Incorporated, a.k.a., the following one alias: —Sandvine Inc. Neptunigatan 1, 211 20, Malmo, Sweden and Svardfiskgatan 4, 432 40, Varberg, Sweden. (See alternate addresses under Canada, India, Japan, Malaysia, and the United Arab Emirates) | For all items subject to the EAR (See § 744.11 of the EAR) | Presumption of denial | 89 FR [INSERT FR PAGE NUMBER February 27, 2024.
| * * * * * *
* * * * * * *
UNITED ARAB EMIRATES | * * * * * *
| Sandvine Incorporated, a.k.a., the following one alias: —Sandvine Inc. Business Central Tower, A BLOCK, 28th floor, Office No. 2805/06/07/08, Dubai Media City, United Arab Emirates. (See alternate addresses under Canada, India, Japan, and Malaysia.) | For all items subject to the EAR (See § 744.11 of the EAR) | Presumption of denial | 89 FR [INSERT FR PAGE NUMBER February 27, 2024.
| * * * * * *
* * * * * * *

* * * * *

Thea D. Rozman Kendler,
Assistant Secretary for Export Administration.

[FR Doc. 2024-03674 Filed 2-26-24; 8:45 am]

BILLING CODE 3510-33-P